NATIONAL INDIAN GAMING COMMISSION

Paperwork Reduction Act

AGENCY: National Indian Gaming Commission.

ACTION: Notice.

SUMMARY: The National Indian Gaming Commission (NIGC), in accordance with the Paperwork Reduction Act of 1995, intends to submit to the Office of Management and Budget (OMB) a request to review and extend approval for the following information collection activities: (1) Compliance and Enforcement under the Indian Gaming Regulatory Act (IGRA); (2) Privacy Act regulations; (3) Approval of Class II and Class III Gaming Ordinances; and (4) National Environmental Policy Act Procedures. The NIGC intends also to submit a request for reinstatement of the approval for collection of information related to its review and approval of management contracts for the operation of tribal gaming facilities. OMB previously approved this information collection requirement but the approval has expired. As to each information collection activity, the NIGC solicits public comment on: The need for the information, the practical utility of the information and whether the information is necessary for the proper performance of NIGC functions; the accuracy of the burden estimate; and ways that the NIGC might minimize this burden including the use of automated collection techniques or other forms of information technology. When providing comment, a respondent should specify the particular collection activity to which the comment pertains.

DATES AND ADDRESSES: Comments for the NIGC's evaluation of the information collection activities and its request to OMB to extend or approve the information collections must be received by December 30, 2000. Send comments to Ms. Juanita Mendoza, National Indian Gaming Commission, 1441 L Street, NW., Suite 9100, Washington, DC 20005. The NIGC regulations to which the information collections pertain are available on the NIGC website, www.nigc.gov. A copy of the NEPA procedures for the NIGC are available on request by providing a mailing address to the point of contact for questions and comments listed on the website. Both the regulations and the NEPA procedures are also available by written request to the NIGC (Attn: Ms. Juanita Mendoza), 1441 L Street NW., Suite 9100, Washington, DC, 20005, or by telephone request at (202) 632-7003. There are no toll-free numbers. All other requests for information should be submitted to Ms. Mendoza at the above address for the NIGC.

SUPPLEMENTARY INFORMATION: Title: Compliance and Enforcement under the Indian Gaming Regulatory Act.

OMB Number: 3141-0001.

Abstract: The Indian Gaming Regulatory Act (25 U.S.C. 2701 et seq.) [IGRA] governs the regulation of gaming on Indian lands. Although the IGRA places primary responsibility with the tribes for regulating gaming, Section 2706 (b) of the Act directs the NIGC to monitor gaming conducted on Indian lands on a continuing basis. The IGRA authorizes the NIGC to access and inspect all papers, books and records relating to gaming conducted on Indian lands. In accordance with this statutory responsibility, 25 CFR 571.7 requires Indian gaming operations to keep permanent financial records. 25 CFR 571.12 and 571.13 require, respectively, an annual independent audit of a tribe's gaming operations and submission of this audit to the NIGC. The NIGC uses this information to fulfill its statutory responsibility to monitor Indian gaming. Section 2710 of the IGRA requires tribes to conduct background investigations on key employees and primary management officials involved in class II and class III gaming. 25 CFR 556 and 558 require tribes to perform each investigation using information such as name, address, previous employment records, previous relationships with either Indian tribes or the gaming industry, and licensing relating to those relationships, any convictions and any other information a tribe feels is relevant to the employment of the individuals being investigated. Tribes are then required to submit to the NIGC a copy of the completed employment applications and investigative reports and licensing eligibility determinations on key employees or primary management officials before issuing gaming licenses to those persons. The NIGC will use this information in conducting its review of the suitability determinations and will advise the tribe if it disagrees with any particular determination.

Estimated Burden: The reporting burden for this collection of information is estimated to be 40 hours per response for access and inspection of records, 100 hours for the preparation and submission of an annual audit, and 400 hours annually, on the average, for each tribe for submission of matters related to background information and licensing.

Respondents: Indian tribes conducting gaming operations.

Estimated Number of Respondents: 220.

Estimated Annual Responses: 30,640.

Estimated Total Annual Burden on Respondents: 127,800 hours.

Title: Privacy Act Procedures.

OMB Number: 3141-0002.

Abstract: To implement the IGRA, it is necessary for the NIGC to collect, maintain and use personal information gathered on certain individuals. Under 25 CFR §§ 556 and 558, tribes must submit to the NIGC information regarding key employees and management officials employed at a tribal gaming operation. The NIGC compiles and stores this information in a system of records. Pursuant to the Privacy Act of 1974 [5 U.S.C. 552a] agencies must promulgate regulations regarding the collection, maintenance, use and dissemination of records within a system. Under 25 CFR 515.3, individuals can request information on whether they are subject to any record. Individuals may also request access to those records and may ask the NIGC to make corrections or amendments if the information is not accurate. The NIGC will use the information submitted by the responder in making this determination.

Estimated Burden: The reporting burden for this collection of information is estimated to be 1 hour per response.

Respondents: Individuals requesting access to records.

Estimated Number of Respondents: 5.

Estimated Annual Responses: 5.

Estimated Total Annual Burden on Respondents: 5 hours.

Title: Approval of Class II and Class III Ordinances.

OMB Number: 3141-000-3.

Abstract: The IGRA establishes the National Indian Gaming Commission as an independent regulatory agency to oversee Indian gaming. The Act sets standards for the regulation of gaming including requirements for approval or disapproval of tribal gaming ordinances. IGRA section 2705(a)(3) requires the Chairman to review all class II and class III tribal gaming ordinances. In accordance with this provision, 25 CFR 552.2 of the NIGC's regulations requires tribes to submit to the NIGC: (1) A copy of the gaming ordinance to be approved, a copy of the authorizing resolution by which it was enacted by the tribal government and a request for approval of the ordinance or resolution; (2) a description of procedures the tribe will employ in conducting background investigations on key employees or primary management officials; (3) a description of procedures the tribe will use to issue licenses to primary management officials and key employees; (4) copies of all gaming regulations; (5) a copy of any applicable tribal-state compact; (6) a description of dispute resolution procedures for disputes arising between the gaming public and the tribe or management contractor; (7) identification of the law enforcement agent that will take fingerprints and a description of the procedures for conducting criminal history checks; and (8) designation of an agent for service of process. Under 25 CFR § 522.3, tribes must submit any amendment to the ordinance or resolution for approval by the Chairman. In this instance, the tribe must provide a copy of the authorizing resolution. The NIGC will use the information collected to approve or disapprove the ordinance or amendment.

Estimated Burden: The reporting burden for this collection of information is estimated to be 80 hours per response for approval of an initial gaming ordinance, and 5 hours per response for an amendment.

Respondents: Indian tribes conducting gaming operations.

Estimated Number of Respondents: 220.

Estimated Annual Responses: Initial ordinance review requests: 10; ordinance amendment review requests: 50.

Estimated Total Annual Burden on Respondents: 1,050 hours.

Title: National Environmental Policy Act Procedures.

OMB Number: 3141-006.

Abstract: The National Environmental Policy Act of 1969 (42 U.S.C. 4321 et seq.) was enacted to encourage a national policy of protecting, enhancing, and restoring the quality of the human environment. The Council on Environmental Quality (CEQ), established pursuant to the National Environmental Policy Act (NEPA), promulgated implementing regulations at 40 CFR 1501 et seq. NEPA and CEQ's regulations require every Federal agency to establish procedures and strategies that consider the environmental consequences of Federal agency actions. Under NEPA, Federal agencies are required to prepare or cause to be prepared environmental documents relating to actions by the agency that may have significant impact on the environment. The NEPA process will be triggered when a tribe and management contractor seek approval of a management contract under 25 CFR 533 which involves the construction of or significant modification to a gaming facility. NIGC procedures discuss the submission of an environmental assessment for consideration incident to that approval process. NIGC will use the environmental assessment in determining whether there is significant impact on the environment as a result of the construction or significant facility modification and may require mitigations described in the assessment to minimize any impact.

Respondents: Indian tribes seeking approval of a management contract for tribal gaming operations and/or a management contactor.

Estimated Number of Respondents: 50.

Estimated Annual Responses: 15.

Estimated Annual Burden Hours: 7,500.

Estimated Burden Hours per Response: 500.

Title: Approval of Management Contracts.

OMB Number: 3141-0004 (expired).

Abstract: Under Sections 2710(e) and 2711 of the IGRA, subject to the approval of the NIGC Chairman, an Indian tribe may enter into a management contract for the operation and management of a tribal gaming activity. In approving a management contract, by the terms of the statute, the Chairman shall require and obtain the name, address, and other pertinent background information on each person or entity having a direct financial interest in, or management responsibility for such contract, and in the case of a corporation those individuals who serve on the board of directors of such corporation and each of its stockholders who hold 10 percent or more of its shares; a description of previous experience that each person has had with other Indian gaming contracts or with the gaming industry including any gaming licenses which the person holds; and a complete financial statement of each person listed. Under 25 CFR part 533, the Chairman requires the submission of the contract with original signatures, any collateral agreements to the contract, a tribal ordinance or resolution authorizing the submission and supporting documentation, a three-year business plan which sets forth the parties' goals, objectives, budgets, financial plans, and related matters and income statements and sources and use of funds statements for the previous three years, and, for any contract exceeding five years or which includes a management fee of more than 30 percent, justification that the capital investment required and income projections for the gaming operation require the longer duration or the additional fee. Under 25 CFR part 535, the Chairman may approve a modification to a management contract or an assignment of that management contract based on information similar to that required under part 533. The part also specifies that the Chairman may void a previous management contract approval and allows the parties the opportunity to submit information relevant to that determination. 25 CFR part 537 specifies the requirements for submission of background information in amplification of the statutory requirement for obtaining information on persons and entities having a direct financial interest in or management responsibility for a management contract. Finally, 25 CFR part 539 permits appeals to the Commission from a decision of the Chairman to disapprove a management contract and allows the Indian tribe and the management company an opportunity to provide information relevant to that appeal. The NIGC will use the information collected to either approve or disapprove the contract or, in the case of an appeal, to grant or deny the appeal.

Estimated Burden: The reporting burden for this collection of information is estimated to be 500 hours per response.

Respondents: Indian tribes conducting gaming and management contractors for tribal gaming operations.

Estimated Number of Respondents: 100.

Estimated Annual Responses: 15.

Estimated Total Annual Burden on Respondents: 7,500.

Montie R. Deer,
Chairman, National Indian Gaming Commission.

[FR Doc. 00-27408 Filed 10-24-00; 8:45 am]

BILLING CODE 7565-01-P